DEPARTMENT OF JUSTICE

Office of Justice Programs

[OJP (NIJ) Docket No. 1655]

Draft of SWGDOC Standard for the Examination of Documents for Alterations

AGENCY: National Institute of Justice, JPO, DOJ.

ACTION: Notice and request for comments.

SUMMARY: In an effort to obtain comments from interested parties, the U.S. Department of Justice, Office of Justice Programs, National Institute of Justice, Scientific Working Group for Forensic Document Examination (SWGDOC) will make available to the general public a draft document entitled, “SWGDOC Standard for the Examination of Documents for Alterations”. The opportunity to provide comments on this document is open to forensic document examiners, law enforcement agencies, organizations, and all other stakeholders and interested parties. Those individuals wishing to obtain and provide comments on the draft document under consideration are directed to the following Web site: http://www.swgdoc.org

DATES: Comments must be received on or before May 31, 2014.

FOR FURTHER INFORMATION CONTACT: Patricia Kashtan, by telephone at 202-353-1856 [Note: this is not a toll-free telephone number], or by email at Patricia.Kashtan@usdoj.gov.

Gregory K. Ridgeway,
Acting Director, National Institute of Justice.

[FR Doc. 2014-07977 Filed 4-8-14; 8:45 am]

BILLING CODE 4410-18-P